DEPARTMENT OF ENERGY

Federal Energy Regulatory Commission

[Docket Nos. PA02-2-000, EL00-95-000, EL00-98-000, and EL00-10-000 (Not Consolidated)]

Fact Finding Investigation of Potential Manipulation of Electric and Natural Gas Prices; Notice of Intent to Release Information and Opportunity to Comment

March 5, 2003.

San Diego Gas & Electric Company, Complainant, v. Sellers of Energy and Ancillary Services Into Markets Operated by the California Independent System Operator and the California Power Exchange, Respondents

[Docket No. EL00-95-000]

Investigation of Practices of the California Independent System Operator and the California Power Exchange

[Docket No. EL00-98-000]

Puget Sound Energy, Inc., et al., Complainant, v. All Jurisdictional Sellers of Energy and/or Capacity at Wholesale into Electric Energy and/or Capacity Markets in the Pacific Northwest, Including Parties to the Western Systems Power Pool Agreement, Respondent

[Docket No. EL01-10-000 (Not Consolidated)]

On February 13, 2002, in Docket No. PA02-2-000, the Commission issued an order directing Staff to conduct an investigation to determine whether any entity manipulated short-term prices for electric energy or natural gas in the West, or otherwise exercised undue influence over wholesale electric prices in the West.¹ In the course of this investigation, Staff collected data and conducted discovery concerning the functioning of energy markets in the Western United States during 2000 and 2001. On August 13, 2002, Staff issued its Initial Report on Company-Specific Separate Proceedings and Generic Reevaluations; Published Natural Gas Price Data; and Enron Trading Strategies, as part of that investigation.

¹ Fact-Finding Investigation into Possible Manipulation of Electric and Natural Gas Prices, 98 FERC ] 61,165 (2002).

On November 20, 2002, the Commission issued an order in Docket Nos. EL00-95-048 and EL00-98-042 that allowed the parties in that proceeding to conduct additional discovery into market manipulation by various sellers during the western power crisis of 2000 and 2001, and specified procedures for adducing this information (Discovery Order).² The Discovery Order also required that no later than February 28, 2003, the parties submit directly to the Commission additional evidence and propose new or modified findings of fact with specific citations to the record to support any proposed substantive recommendations.³ On February 10, 2003, the Commission issued an order affording the parties the opportunity to respond to submissions made by adverse parties (Rehearing Order).⁴ The Rehearing Order allowed parties until March 17, 2003, to file reply comments directly with the Commission.⁵

² San Diego Gas & Elec. Co. v. Sellers of Energy and Ancillary Serv., et al., 101 FERC ] 61,186 (2002).

³ By Order dated February 24, 2003, the Commission extended the February 28, 2003 deadline to March 3, 2003. See San Diego Gas & Elec. Co. v. Sellers of Energy and Ancillary Serv., et al., 101 FERC ] 61,194 (2002) (February 24 Order).

⁴ San Diego Gas & Elec. Co. v. Sellers of Energy and Ancillary Serv., et al., 102 FERC ] 61,164 (2002).

⁵ The February 24 Order extended the March 17, 2003 deadline to March 20, 2003.

Take notice that pursuant to the Commission's regulations, 18 CFR 388.112(d) (2002), the Commission intends to release all documents submitted in Docket No. PA02-2-000, except documents obtained from other Federal agencies in accord with the Federal Records Act, 44 U.S.C. 3510(b), and all documents submitted in response to the Discovery Order and Rehearing Order. Any submitter of information with a confidentiality interest in these documents may submit comments on the release of these documents. Written comments are due within seven days from the date of this notice, and should clearly explain any opposition to the release of these documents, or portions thereof, and the rationale for that position. The Commission will not be persuaded by conclusory statements as to why the information deserves protection. The Commission recognizes that reply comments filed in Docket Nos. EL00-95-000 and EL00-98-000 will be filed after comments regarding the release of information. Therefore, submitters of reply comments should consider the Commission's intention to release all documents and provide comments regarding release of information that is to be submitted in reply comments, to the extent practicable, at the same time they provide comments on the release of documents already submitted.

Any person desiring to be heard should file comments with the Federal Energy Regulatory Commission, 888 First Street, NE., Washington, DC 20426. Comments will be considered by the Commission in determining the appropriate action to be taken. This notice is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: March 12, 2003.

Magalie R. Salas,
Secretary.

[FR Doc. 03-5802 Filed 3-11-03; 8:45 am]

BILLING CODE 6717-01-P